NUCLEAR REGULATORY COMMISSION

Summary and Categorization of Public Comments on the Control of Solid Materials: Notice of Availability

AGENCY: Nuclear Regulatory Commission.

ACTION: Notice of availability.

SUMMARY: The Nuclear Regulatory Commission (NRC) is announcing the completion and availability of NUREG/CR-6682, Final Report, entitled “Summary and Categorization of Public Comments on the Control of Solid Materials.”

ADDRESSES: Copies of NUREG/CR-6682, Final Report, may be obtained by writing to the Superintendent of Documents, U.S. Government Printing Office, P.O. Box 37082, Washington, DC 20402-9328. Copies are also available from the National Technical Information Service, 5285 Port Royal Road, Springfield, Virginia 22161. A copy of the document is available for inspection and/or copying for a fee in the NRC Public Document Room, 11555 Rockville Pike, Room O-1F21, Rockville, Maryland. A copy is also posted on the NRC's internet web site at URL = “http://www.nrc.gov/NMSS/IMNS/controlsolids.html.”

FOR FURTHER INFORMATION CONTACT: Giorgio Gnugnoli, Division of Waste Management, Office of Nuclear Material Safety and Safeguards, U.S. Nuclear Regulatory Commission, Washington, DC 20555-0001. Telephone: (301) 415-7135.

SUPPLEMENTARY INFORMATION: At this time, the NRC is in the preliminary stages of examining its approach for control of solid materials and has sought public input to its decision-making process through various forums. To aid in this process, the NRC prepared an Issues Paper that described issues and alternatives related to release of solid materials. This Issues Paper was published in the Federal Register on June 30, 1999, (64 FR 35090). That Federal Register Notice (FRN) provided for an opportunity to submit public comments on the Issues Paper, in general, and specifically on the NRC examination of its approach for control of solid material. The closing period for public comments was originally November 15, 1999, but was extended until December 22, 1999. The FRN invited public comment on the paper and, to provide further opportunity for public input, the NRC held a series of public meetings during Fall 1999 at the following four locations: (1) San Francisco, CA on September 15-16, 1999; (2) Atlanta, GA on October 5-6, 1999; (3) Rockville, MD on November 1-2, 1999; (4) Chicago, IL on December 7-8, 1999.

The Issues Paper described the following 2 process alternatives: (1) Continue current NRC practice of case-by-case consideration of licensee requests for release of solid material or consider updating existing guidance; and (2) conduct a rulemaking to establish criteria for control of solid materials.

Over 800 comments have been received on the Issues Paper. The majority of the comments focused on the specific technical approaches. With the assistance of contractors, the public meeting transcripts and the public comments received by the NRC staff were collected and organized into a database to facilitate NRC staff review of the public comment. The NUREG/CR-6682 provides a summary and characterization of the public comments and meetings, as well as major trends in the comments.

Various sections of the NUREG/CR-6682 summarize comments received on the process alternatives for establishing criteria for control of solid material. These alternatives include continuing the current case-by-case approach or whether to conduct a rulemaking. Moreover, the NUREG/CR-6682 summarizes comments on the technical approaches as to what the criteria should be. Finally, comments on development of NRC's technical information base, other procedural issues, international issues, and materials that should be considered are also addressed.

The public comments received were discussed in SECY-00-0070, dated March 23, 2000, which provided the Commission with a summary of results of the public meetings. They were also part of the information available to the Commission in making a decision, on August 18, 2000, to defer a final decision on whether to proceed with rulemaking and in providing direction to the NRC staff to proceed with a National Academy of Sciences study on alternatives and to continue with development of a technical information base. The comments will be used by the NRC in its continuing evaluation of this issue.

Dated at Rockville, Maryland, this 9th day of November 2000.
For the Nuclear Regulatory Commission.
Patricia Holahan,
Chief, Rulemaking and Guidance Branch, Division of Industrial and Medical Nuclear Safety, NMSS.

[FR Doc. 00-29636 Filed 11-17-00; 8:45 am]

BILLING CODE 7590-01-P